DEPARTMENT OF TRANSPORTATION

Surface Transportation Board

[STB Finance Docket No. 33862]

Public Service Company of Colorado—Construction Exemption—Pueblo County, CO

AGENCY: Surface Transportation Board.

ACTION: Notice of Exemption.

SUMMARY: Under 49 U.S.C. 10502, the Board conditionally exempts from the prior approval requirements of 49 U.S.C. 10901 the construction by Public Service Company of Colorado (PSCo) of a line of railroad, approximately 1,500 feet in length, in Pueblo County, CO.¹

¹ On May 19, 2000, PSCo filed a petition under 49 U.S.C. 10901(d) to require BNSF to allow PSCo's proposed construction to cross BNSF's track. The proceeding is docketed as STB Finance Docket No. 33862 (Sub-No. 1), Public Service Company of Colorado—Petition For Crossing Authority Pursuant to 49 U.S.C. 10901(d). The crossing proceeding remains pending.

DATES: The exemption will not become effective until the environmental review process is completed. Once that process is completed, the Board will issue a further decision addressing the environmental matters and making the exemption effective at that time, if appropriate, thereby allowing construction to begin. Petitions to reopen must be filed by September 12, 2000.

ADDRESSES: Send pleadings, referring to STB Finance Docket No. 33862, to: (1) Surface Transportation Board, Office of the Secretary, Case Control Unit, 1925 K Street, NW., Washington, DC 20423-0001; and (2) Thomas W. Wilcox, 1920 N Street, NW., Washington, DC 20036.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dā-To-Dā Office Solutions, Room 405, 1925 K Street, NW., Washington, DC 20006. Telephone: (202) 466-5530. [TDD for the hearing impaired: 1-800-877-8339.]

Board decisions and notices are available on our website at “WWW.STB.DOT.GOV.”

Decided: August 16, 2000.
By the Board, Chairman Morgan, Vice Chairman Burkes, and Commissioner Clyburn.
Vernon A. Williams,
Secretary.

[FR Doc. 00-21509 Filed 8-22-00; 8:45 am]

BILLING CODE 4915-00-P